ENVIRONMENTAL PROTECTION AGENCY

40 CFR Part 52

[EPA-R04-OAR-2007-0085; FRL-9967-12-Region 4]

Air Plan Approval; NC; Open Burning and Miscellaneous Revisions

AGENCY: Environmental Protection Agency (EPA).

ACTION: Proposed rule; reopening of public comment period.

SUMMARY: The Environmental Protection Agency (EPA) is reopening the comment period for a proposed rulemaking notice published in the Federal Register on July 18, 2017, which accompanied a direct final rulemaking published on the same date. In the July 18, 2017, action, EPA proposed to approve several revisions to the North Carolina State Implementation Plan (SIP) submitted by the State of North Carolina through the North Carolina Department of Environmental Quality (formerly the North Carolina Department of Environment and Natural Resources), Division of Air Quality, on October 14, 2004, March 24, 2006, and January 31, 2008. The revisions include changes to several regulations and the addition of a new section to the Exclusionary Rules of the North Carolina SIP. It was brought to EPA's attention that it inadvertently did not include the October 14, 2004, and January 31, 2008, state submittals and related materials in the electronic docket at the time of the publication of the proposed rulemaking notice, and the agency was asked to extend the comment period. The materials have been added to the docket, and EPA is reopening the comment period for an additional 15 days.

DATES: Comments on the proposed rule published July 18, 2017 (82 FR 32782) must be received on or before September 21, 2017.

ADDRESSES: Submit your comments, identified by Docket ID No. EPA-R04-OAR-2007-0085 at https://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the Web, cloud, or other file sharing system). For additional submission methods, the full EPA public comment policy, information about CBI or multimedia submissions, and general guidance on making effective comments, please visit https://www2.epa.gov/dockets/commenting-epa-dockets.

FOR FURTHER INFORMATION CONTACT: Sean Lakeman or Nacosta C. Ward, Air Regulatory Management Section, Air Planning and Implementation Branch, Air, Pesticides and Toxics Management Division, U.S. Environmental Protection Agency, Region 4, 61 Forsyth Street SW., Atlanta, Georgia 30303-8960. Mr. Lakeman can be reached via telephone at (404) 562-9043 or via electronic mail at lakeman.sean@epa.gov. Ms. Ward can be reached via telephone at (404) 562-9140, or via electronic mail at ward.nacosta@epa.gov.

SUPPLEMENTARY INFORMATION: EPA published a proposed rulemaking on July 18, 2017 (82 FR 32782), which accompanied a direct final rulemaking published on the same date (82 FR 32767). The proposed revisions include changes to several regulations and the addition of a new section to the Exclusionary Rules of the North Carolina SIP. It was brought to EPA's attention that it inadvertently did not include the October 14, 2004 and January 31, 2008, state submittals and related materials in the electronic docket at the time of the publication of the proposed rulemaking action, and the agency was asked to extend the comment period. The materials have been added to the docket, and EPA is reopening the comment period for an additional 15 days.

Dated: August 21, 2017.
V. Anne Heard,
Acting Regional Administrator, Region 4.

[FR Doc. 2017-18767 Filed 9-5-17; 8:45 am]

BILLING CODE 6560-50-P